FEDERAL ELECTION COMMISSION

Sunshine Act Meetings

PREVIOUSLY ANNOUNCED DATE AND TIME: Tuesday, February 15, 2005, 10 a.m. Meeting closed to the public. This meeting was cancelled.

* * * * *

DATE AND TIME: Tuesday, March 8, 2005 at 3 p.m.

PLACE: 999 E Street, NW., Washington, DC.

STATUS: This meeting will be closed to the public.

ITEMS TO BE DISCUSSED:

Compliance matters pursuant to 2 U.S.C. 437g.

Audits conducted pursuant to 2 U.S.C. 437g, 438(b), and Title 26, U.S.C.

Matters concerning participation in civil actions or proceedings or arbitration.

Internal personnel rules and procedures or matters affecting a particular employee.

* * * * *

DATE AND TIME: March 10, 2005 at 10 a.m.

PLACE: 999 E Street, NW., Washington, DC (ninth floor).

STATUS: This meeting will be open to the public.

ITEMS TO BE DISCUSSED:

Correction and Approval of Minutes.

Advisory Option 2005-01: Mississippi Band of Choctaw Indians, by counsel C. Bryant Rogers.

2005 Legislative Recommendations.

Final Rules and Explanation and Justification on Political Party Committees.

Donating Funds to Certain Tax-Exempt Organizations and Political Organizations.

Final Rules and Explanation and Justification on Filing Documents by Priority Mail, Express Mail, and Overnight Delivery Service.

Routine Administrative Matters.

* * * * *

FOR FURTHER INFORMATION CONTACT: Mr. Robert Biersack, Press Officer, Telephone: (202) 694-1220.

Mary W. Dove,
Secretary of the Commission.

[FR Doc. 05-4166 Filed 2-28-05; 8:45 am]

BILLING CODE 6715-01-M